DEPARTMENT OF HEALTH AND HUMAN SERVICES

Centers for Disease Control and Prevention

[30Day-08-05CZ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Assessing the Diabetes Detection Initiative for Policy Decisions—New—National Center for Chronic Disease Prevention and Health Promotion (NCCDPHP), Centers for Disease Control and Prevention (CDC).

Background and Brief Description

Type II diabetes is a chronic disease that affects more than 18 million Americans, approximately 5 million of whom do not know that they have the disease. As the disease progresses, it often causes severe complications, including heart disease, blindness, lower extremity arterial disease, and kidney failure. American Indians, African Americans, Latino Americans, and some Asian Americans and Pacific Islanders are disproportionately affected by diabetes. Identifying persons who have undiagnosed diabetes and treating them could prevent or delay diabetes complications.

In November 2003 the Diabetes Detection Initiative (DDI) was launched in 10 regional locations around the U.S. to identify a portion of the estimated 5 million people with undiagnosed Type II diabetes. The DDI was designed to refer persons at increased risk of Type II diabetes to diagnostic testing, and if appropriate, to follow-up treatment. Whether or not the DDI should be expanded to other communities depends on the health benefit and costs of the program. The CDC plans to conduct a one-year study to provide this critical information.

The planned information collection will assess the resources used, the cost per case detected, and the perceived benefit of the DDI to patients. Information for the assessment will be obtained by conducting the following surveys: (1) A health clinic leadership survey will be completed by the clinic director or representative of each of the 43 clinics that participated in the DDI. The survey will obtain information on all activities and resources used at the clinic level related to diabetes screening, detection, and outreach services. Approximately 30 of the 43 eligible clinics are expected to participate in the survey. (2) A patient survey will be administered to a sample of 600 patients from the participating clinics. The survey will collect information about each patient's background and out-of-pocket medical and non-medical direct health care costs (e.g., co-payments, transportation costs, and the value of the patient's time associated with clinic visits). The DDI Patient Survey will include a computer-assisted personal interview (CAPI) module to collect information about each patient's stated preferences with respect to diabetes screening options.

The results of the study will also provide information needed for evaluating the long-term cost-effectiveness of screening for undiagnosed diabetes in the United States.

There are no costs to the respondents other than their time. The total estimated annualized burden hours are 263.

Estimated Annualized Burden Hours
Type of respondents | Form name | Number of respondents | Number of responses per respondent | Average burden (in hours)
DDI Clinic Representatives | DDI Health Clinic Leadership Survey | 30 | 1 | 1
Patients at DDI Clinics | Screening Questions for the DDI Patient Survey | 1,000 | 1 | 2/60
| DDI Patient Survey | 600 | 1 | 20/60

Dated: January 10, 2008.
Maryam I. Daneshvar,
Acting Reports Clearance Officer, Centers for Disease Control and Prevention.

[FR Doc. E8-1016 Filed 1-22-08; 8:45 am]

BILLING CODE 4163-18-P